ENVIRONMENTAL PROTECTION AGENCY

[FRL-10881-01-OA]

Local Government Advisory Committee (LGAC) and Small Communities Advisory Subcommittee (SCAS) Meeting

AGENCY: Environmental Protection Agency (EPA).

ACTION: Notification of public meeting.

SUMMARY: Pursuant to the Federal Advisory Committee Act (FACA), EPA herby provides notice of a meeting for the Local Government Advisory Committee (LGAC) and its Small Communities Advisory Subcommittee (SCAS) on the date and time described below. This meeting will be open to the public. For information on public attendance and participation, please see the registration information under

DATES: The LGAC will have a hybrid meeting on May 22nd 2023, from 1 to 5 p.m. Eastern Daylight Time and May 23rd, 2023 from 8:30 a.m. to 12 p.m. Eastern Daylight Time. The SCAS will have a hybrid meeting prior to the LGAC on May 22nd, 2023, from 10:30 a.m. to 12 p.m. Eastern Daylight Time.

FOR FURTHER INFORMATION CONTACT: Paige Lieberman, Designated Federal Officer (DFO), at LGAC@epa.gov or 202-564-9957.

Information on Accessibility: For information on access or services for individuals requiring accessibility accommodations, please contact Paige Lieberman by email at LGAC@epa.gov. To request accommodation, please do so five (5) business days prior to the meeting, to give EPA as much time as possible to process your request.

SUPPLEMENTARY INFORMATION:

Content

The LGAC will discuss several priority issues at EPA, including providing draft recommendations on proposed national drinking water quality standards for PFAS, continuing discussions on climate mitigation, environmental justice and risk communications regarding PFAS. The SCAS will review these issues, as well as discuss recommendations on land use and transportation issues for small communities. Both the LGAC and SCAS will hear from EPA leadership regarding several new proposed charges. Details on the charges will be posted online (link below) one week prior to the meeting.

Registration

The meeting will be held virtually as well as in person. Members of the public who wish to participate should register by contacting the Designated Federal Officer (DFO) at LGAC@epa.gov by May 19, 2023. Online participation will be via Microsoft Teams. In person participation will be at EPA Headquarters, 1200 Constitution Ave. NW, Washington, DC.

Once available, the agenda and other supportive meeting materials will be available online at https://www.epa.gov/ocir/local-government-advisory-committee-lgac and will be emailed to all registered. In the event of cancellation for unforeseen circumstances, please contact the DFO or check the website above for reschedule information.

Dated: April 3, 2023.
Paige Lieberman,
Designated Federal Officer, U.S. Environmental Protection Agency.

[FR Doc. 2023-07758 Filed 4-12-23; 8:45 am]

BILLING CODE 6560-50-P